DEPARTMENT OF HEALTH AND HUMAN SERVICES

Health Care Financing Administration

[HCFA-1134-N]

Medicare Program; Open Public Meeting on May 18, 2000 to Discuss the Coverage of Drugs and Biologicals that Cannot be Self-Administered

AGENCY: Health Care Financing Administration (HCFA), HHS.

ACTION: Notice of meeting.

SUMMARY: This notice announces a public meeting to obtain input on the Medicare program policy for drugs and biologicals which cannot be self-administered and are furnished as an incident to a physician's professional service. The meeting will provide an opportunity for providers, suppliers, beneficiaries, beneficiary advocates, and other interested parties to furnish information and raise issues about the program's policy concerning the self-administration of drugs and biologicals.

DATES: The meeting is scheduled for May 18, 2000 from 9:30 a.m. until 3:30 p.m.

ADDRESSES: The meeting will be held at the Health Care Financing Administration headquarters, in the auditorium, 7500 Security Boulevard, Baltimore, Maryland 21244-1850.

FOR FURTHER INFORMATION CONTACT: Heidi Adams, (410) 786-1620.

SUPPLEMENTARY INFORMATION:

Background

As suggested by the report language accompanying section 219 of the Department of Health and Human Services Appropriations Act, 2000 (Public Law 106-113), we are announcing the first of two “town hall” meetings to discuss our current policy regarding Medicare coverage of drugs and biologicals which cannot be self-administered and are furnished as an incident to a physician's professional service.

The purpose of the May 18th meeting is to obtain focused input on how this statutory provision should reasonably be interpreted; how the evolution of medical technology has affected physician practice in self-administration; how different interpretations of the provision might affect considerations of fairness and equity among beneficiary populations; and how physician practice may be affected by different interpretations. Due to time constraints and the need to focus on the above topics, the agency is unable to undertake a discussion of options or ideas that require a statutory change.

The format of the meeting will include an introduction and opening statements by the administration, followed by 15-minute presentations by panel members. These statements will discuss the historical development of the “self-administered” issue and will examine the current policy and information that has been gathered on the issue. Following the short presentations, the meeting will move to an open dialogue.

Individuals interested in making a presentation at the meeting or who need special arrangements should contact Heidi Adams at (410) 786-1620 or via e-mail at HAdams@hcfa.gov no later than May 7, 2000. Individuals should identify the topics they wish to discuss during their presentation. Because of time constraints, only a limited number of individuals will be able to make presentations. In an effort to assure that all viewpoints are represented, we will notify participants who are selected to make a presentation. We will not assign presentation times until after May 7, 2000.

While the meeting is open to the public, attendance is limited to space available. Individuals must register in advance as described below.

Registration

The Center for Health Plans and Providers will handle registration for the meeting. Individuals may register by sending a fax to the attention of Heidi Adams at (410) 786-0169. At the time of registration, please provide your name, address, telephone number, company name and fax number.

Receipt of your fax will constitute confirmation of your registration. Meeting materials will be provided at the time of the meeting.

If you have questions regarding registration, please contact Heidi Adams. We will accept written comments, questions, or other materials specifically dealing with the issue that are received no later than 5 p.m. on May 7, 2000. Written submissions must be sent to: Health Care Financing Administration, ATTN: Heidi Adams, C4-07-07, 7500 Security Boulevard, Baltimore, Maryland 21244-1850.

Authority: Section 1102 of the Social Security Act (42 U.S.C. 1302).

(Catalog of Federal Domestic Assistance Program No. 93.773 Medicare—Hospital Insurance Program; and No. 93.774, Medicare—Supplementary Medical Insurance Program)

Dated: April 26, 2000.
Nancy-Ann Min DeParle,
Administrator, Health Care Financing Administration.

[FR Doc. 00-10883 Filed 5-1-00; 8:45 am]

BILLING CODE 4120-01-P